DEPARTMENT OF ENERGY

Energy Information Administration

Agency Information Collection Proposed Extension

AGENCY: Energy Information Administration (EIA), Department of Energy (DOE).

ACTION: Notice and request for comments.

SUMMARY: EIA invites public comment on the proposed three-year extension, with change, of Form EIA-111 Quarterly Electricity Imports and Exports Report, as required by the Paperwork Reduction Act of 1995. Form EIA-111 collects information on U.S. imports and exports of electricity. Data are used to obtain estimates on the flows of electricity into and out of the United States.

DATES: EIA must receive all comments on this proposed information collection no later than February 20, 2024. If you anticipate difficulty in submitting comments within that period, contact the person listed in ADDRESSES as soon as possible.

ADDRESSES: Written comments may only be sent electronically by email to EIA111@eia.gov.

FOR FURTHER INFORMATION CONTACT: Glenn McGrath at (202) 586-4325 or by email at glenn.mcgrath@eia.gov. The form and instructions are available at http://www.eia.gov/survey/changes/electricity/.

SUPPLEMENTARY INFORMATION: This information collection request contains:

(1) OMB No.: 1905-0208;

(2) Information Collection Request Title: Quarterly Electricity Imports and Exports Report;

(3) Type of Request: Three-year extension with change;

(4) Purpose: Form EIA-111 collects U.S. electricity import and export data on a quarterly basis. The data are used to measure the flow of electricity into and out of the United States. The import and export data are reported by U.S. purchasers, sellers and transmitters of wholesale electricity, including persons authorized by Order to export electric energy from the United States to foreign countries, persons authorized by Presidential Permit to construct, operate, maintain, or connect electric power transmission lines that cross the U.S. international border, and U.S. Balancing Authorities that are directly interconnected with foreign Balancing Authorities. Such entities report monthly flows of electric energy received or delivered across the border, the cost associated with the transactions, and actual and implemented interchange.

(4a) Proposed Changes to Information Collection: There is a reduction in the number of survey respondents required to file EIA-111 reports. This reduces the annual estimated responses and associated burden hours. There is no change to the content collected on the EIA-111.

(5) Annual Estimated Number of Respondents: 153;

(6) Annual Estimated Number of Total Responses: 612;

(7) Annual Estimated Number of Burden Hours: 918;

(8) Annual Estimated Reporting and Recordkeeping Cost Burden: $80,196.48 (918 burden hours times $87.36 per hour). EIA estimates that respondents will have no additional costs associated with the surveys other than the burden hours and maintenance of the information as part of the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on December 18, 2023.
Samson A. Adeshiyan,
Office Director, Office of Statistical Methods & Research, U.S. Energy Information Administration.

[FR Doc. 2023-28142 Filed 12-20-23; 8:45 am]

BILLING CODE 6450-01-P